ENVIRONMENTAL PROTECTION AGENCY

[EPA-HQ-OPPT-2017-0139; FRL-9966-83]

Methylene Chloride in Furniture Refinishing; Workshop

AGENCY: Environmental Protection Agency (EPA).

ACTION: Notice of public meeting.

SUMMARY: On September 12, 2017, EPA is holding a workshop on the use of methylene chloride in furniture refinishing. In a proposed rule published on January 19, 2017, EPA proposed to prohibit manufacture (including import), processing, and distribution in commerce of methylene chloride in consumer paint and coating removal and most types of commercial paint and coating removal, except for commercial furniture refinishing. This workshop will help inform EPA's understanding of methylene chloride use in furniture refinishing. Federal and state governments, industry professionals, furniture refinishing experts, non-government organizations, and academic experts, among others, will discuss the role of methylene chloride in furniture refinishing, potential alternatives, economic impacts, and other issues identified in EPA's January 2017 proposed rule on methylene chloride, which deferred action on the use of methylene chloride in commercial furniture refinishing. This information will allow EPA to better understand current work practices and obtain additional information on the economic considerations involved in selecting chemical products for paint and coating removal in the furniture refinishing sector. The meeting also aims to facilitate an exchange of information on existing use practices and furniture refinishers' experience, in general, with paint removal products and methods.

DATES: The meeting will be held in Boston on September 12, 2017, from 9:00 a.m. to 4:00 p.m.

To request accommodation of a disability, please contact the technical person listed under FOR FURTHER INFORMATON CONTACT, preferably at least 10 days prior to the meeting, to give EPA as much time as possible to process your request.

Meeting Registration. You may register online (preferred) or in person at the meeting. To register online for the meeting, go to: https://www.eventbrite.com/e/us-epa-public-meeting-on-methylene-chloride-in-furniture-refinishing-tickets-36895406153. Advance registration for the meeting must be completed no later than September 10, 2017. On-site registration will be permitted, but seating and speaking priority will be given to those who pre-register by the deadline.

Comments. EPA will hear oral comments at the meeting, and will accept written comments and materials submitted to docket identification (ID) number EPA-HQ-OPPT-2017-0139 at http://www.regulations.gov on or before November 12, 2017. For further information about participation and submitting materials, see Unit III: How Can I Request to Participate in this Meeting?

ADDRESSES: The meeting will be held at held at EPA's Region 1 office at 5 Post Office Square, Suite 100, Boston, MA 02109-3912.

FOR FURTHER INFORMATION CONTACT:

For technical information contact: Ingrid Feustel, Chemical Control Division (7405M), Office of Pollution Prevention and Toxics, Environmental Protection Agency, 1200 Pennsylvania Ave. NW., Washington, DC 20460-0001; telephone number: (202) 564-3199; email address: Feustel.ingrid@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action may be of particular interest to entities that manufacture (defined under TSCA to include import), process, distribute in commerce, use or dispose of methylene chloride or other chemicals in furniture restoration, especially entities identified under North American Industrial Classification System (NAICS) code 811420. Since other entities may also be interested, the Agency has not attempted to describe all the specific entities and corresponding NAICS codes for entities that may be interested in or affected by this action.

B. How can I get copies of this document and other related information?

The docket for this action, identified by docket identification (ID) number EPA-HQ-OPPT-2017-0139 is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

In the Federal Register of January 19, 2017 (82 FR 7464) (FRL-9958-57), EPA proposed to prohibit manufacture (including import), processing, and distribution in commerce of methylene chloride in consumer paint and coating removal and in most types of commercial paint and coating removal, excluding commercial furniture refinishing. In that notice, the Agency announced its intention to hold a public meeting to learn more about methylene chloride use in furniture refinishing. This workshop will help EPA and all stakeholders better understand challenges in commercial furniture refinishing. The workshop aims to facilitate an exchange of information on existing use and work practices, the needs, and preferences and expertise of craftspeople, and the availability and effectiveness of paint and coating removal approaches. Federal and state governments, industry professionals, furniture restoration experts, non-profit organizations, and academic experts, among others, will discuss the role of methylene chloride in furniture restoration. The workshop will include presentations by subject matter experts, with sessions focused on current use practices, the availability of safer alternatives in furniture refinishing, and worker protection measures. The workshop will include opportunities for public comment.

III. How can I request to participate in this meeting?

A. Registration

To attend the meeting in person or to receive remote access, you must register no later than September 10, 2017, by visiting: https://www.eventbrite.com/e/us-epa-public-meeting-on-methylene-chloride-in-furniture-refinishing-tickets-36895406153. While on-site registration will be available, seating will be on a first-come, first-served basis, with priority given to early registrants, until room capacity is reached. For registrants not able to attend in person, the meeting will also provide remote access capabilities; registered participants will be provided information on how to connect to the meeting prior to its start.

B. Submitting Written Materials

You may submit written information for consideration during or after this meeting. Information should be submitted to docket ID number EPA-HQ-OPPT-2017-139 available at through https://www.regulations.gov. Follow the online instructions for submitting information or comments. Once submitted, this information cannot be edited or withdrawn. EPA may publish any information received to its public docket. Do not submit electronically any information you consider to be Confidential Business Information or other information whose disclosure is restricted by statute. Multimedia submissions (audio, video, etc.) must be accompanied by a written statement or information. Information must be received on or before November 12, 2017.

Authority: 15 U.S.C. 2605.

Dated: August 24, 2017.
Wendy Cleland-Hamnett,
Acting Assistant Administrator, Office of Chemical Safety and Pollution Prevention.

[FR Doc. 2017-18420 Filed 8-29-17; 8:45 am]

BILLING CODE 6560-50-P